DEPARTMENT OF HOMELAND SECURITY

Coast Guard

33 CFR Part 117

[Docket No. USCG-2021-0099]

Drawbridge Operation Regulation; Okeechobee Waterway, Indiantown, FL

AGENCY: Coast Guard, Department of Homeland Security (DHS).

ACTION: Notification of temporary deviation from regulations; request for comments.

SUMMARY: The Coast Guard has issued a temporary deviation from the operating schedule that governs the Seaboard System Railroad Bridge, across the Okeechobee Waterway, mile 28.2, at Indiantown, Florida. The bridge owner requested to start the three hour advance notice for an opening earlier each evening and end it one hour later each morning. This deviation will test a change to the drawbridge operation schedule to determine whether a permanent change to the schedule is needed. The Coast Guard is seeking comments from the public regarding these proposed changes.

DATES: This deviation is effective without actual notice from March 5, 2021 through 11:59 p.m. on August 27, 2021. For the purposes of enforcement, actual notice will be used from 1 a.m. on March 1, 2021 until March 5, 2021.

Comments and related material must reach the Coast Guard on or before April 29, 2021.

ADDRESSES: You may submit comments identified by docket number USCG-2021-0099 using Federal eRulemaking Portal at https://www.regulations.gov.

See the “Public Participation and Request for Comments” portion of the SUPPLEMENTARY INFORMATION section below for instructions on submitting comments.

FOR FURTHER INFORMATION CONTACT: If you have questions on this test deviation, call or email L.T. Samuel Rodriguez-Gonzalez, U.S. Coast Guard, Sector Miami Waterways Management Division; telephone 305-535-4307, email Samuel.Rodriguez-Gonzalez@uscg.mil.

SUPPLEMENTARY INFORMATION:

I. Background, Purpose, and Legal Basis

The Seaboard System Railroad Bridge across the Okeechobee Waterway, mile 28.2, at Indiantown, Florida is a swing bridge with a seven foot vertical clearance at mean high water in the closed position. The normal operating schedule for the bridge is set forth in 33 CFR 117.317(e). Navigation on the waterway is commercial and recreational.

The bridge owner, CSX Transportation, requested that vessels provide a three hour advance notification for a bridge opening during the evening and overnight hours. The three hour advance notification would align with the operating schedule of the U.S. Army Corps of Engineers (USACE) Locks along this portion of the Okeechobee Waterway. After reviewing the draw tender logs, the Coast Guard determined that allowing the bridge to change the start and end times for the advance notice may meet the reasonable needs of navigation.

Under this test deviation, the draw shall open on signal, except that from 7 p.m. to 7 a.m. the draw shall open if at least a three hour advance notice is given. Advance openings can be arranged by contacting CSX Transportation at 1-850-209-9528.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this test deviation as being available in this docket and all public comments, will be in our online docket at https://www.regulations.gov and can be viewed by following that website's instructions. Additionally, if you go to the online docket and sign up for email alerts, you will be notified when comments are posted or a final rule is published.

Dated: February 25, 2021.
Randall D. Overton,
Director, Bridge Administration, Seventh Coast Guard District.

[FR Doc. 2021-04552 Filed 3-4-21; 8:45 am]

BILLING CODE 9110-04-P